DEPARTMENT OF COMMERCE

National Oceanic and Atmospheric Administration

[RTID 0648-XC848]

Pacific Fishery Management Council; Public Meeting

AGENCY: National Marine Fisheries Service (NMFS), National Oceanic and Atmospheric Administration (NOAA), Commerce.

ACTION: Notice of a public meeting.

SUMMARY: The Pacific Fishery Management Council's (Pacific Council) Groundfish Endangered Species Workgroup (Workgroup) will hold a public meeting.

DATES: The meeting will be held Wednesday, April 12, 2023, from 9 a.m. to 4 p.m. and Thursday, April 13, 2023, from 9 a.m. to 12 p.m., Pacific Daylight Time or until business for the day has been completed. The meeting will be a hybrid format with the Workgroup meeting in person, with live streaming and remote participation options.

ADDRESSES: This meeting will be held at the NOAA Western Regional Center, 7600 Sand Point Way NE, Seattle, WA 98115. Specific meeting information, including directions on joining the meeting, connecting to the live stream broadcast, and system requirements will be provided in the meeting announcement on the Pacific Council's website (see www.pcouncil.org).

Council address: Pacific Fishery Management Council, 7700 NE Ambassador Place, Suite 101, Portland, OR 97220-1384.

FOR FURTHER INFORMATION CONTACT: Brett Wiedoff, Staff Officer, Pacific Council; telephone: (503) 820-2424.

SUPPLEMENTARY INFORMATION: The primary purpose of this meeting is to discuss and develop work products and recommendations for the Pacific Council's June 2023 meeting. Specifically, the Workgroup will review recent information on incidental take of species listed under the Endangered Species Act (ESA), other than salmonids, in the Pacific Coast groundfish fishery. The Workgroup may propose for Pacific Council consideration, conservation and management measures to minimize bycatch of the pertinent ESA-listed species. The meeting agenda will be available on the Pacific Council's website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: March 20, 2023.
Rey Israel Marquez,
Acting Deputy Director, Office of Sustainable Fisheries, National Marine Fisheries Service.

[FR Doc. 2023-06030 Filed 3-23-23; 8:45 am]

BILLING CODE 3510-22-P